DEPARTMENT OF THE INTERIOR

Fish and Wildlife Service

50 CFR Part 17

[Docket No. FWS-R8-ES-2009-0062; 4500030114]

RIN 1018-AW85

Endangered and Threatened Wildlife and Plants; Designation of Critical Habitat for the Buena Vista Lake Shrew

AGENCY: Fish and Wildlife Service, Interior.

ACTION: Proposed rule; revision and reopening of comment period.

SUMMARY: We, the U.S. Fish and Wildlife Service (Service), announce the reopening of the comment period on the July 10, 2012, revised proposal to designate critical habitat for the Buena Vista Lake shrew (Sorex ornatus relictus) (shrew) under the Endangered Species Act of 1973, as amended (Act). We announce a revision of the unit map labels. We provide maps with correct labels for all proposed units herein. We also announce the availability of a draft economic analysis (DEA) of the revised critical habitat proposal, and of an amended required determinations section of the revised proposal. We are reopening the comment period for an additional 60 days to allow all interested parties an opportunity to comment on the revised proposed rule, the associated DEA, and the amended required determinations section. Furthermore, we announce a public hearing for the purpose of taking oral or written comments on those documents. Comments previously submitted need not be resubmitted, as they will be fully considered in preparation of the final rule.

DATES: Written Comments: We will consider comments received on or before May 6, 2013. Comments must be received by 11:59 p.m. Eastern Time on the closing date. Any comments that we receive after the closing date may not be considered in the final decision on this action.

Public Hearing: We will hold the public hearing on March 28, 2013. The first hearing session will start at 1:00 p.m. Pacific Time with doors opening at 12:30, and the second session at 6 p.m. with doors opening at 5:30. The location of the hearing is under ADDRESSES, below.

ADDRESSES: Document availability: You may obtain copies of the DEA and the revised proposed rule on the Internet at http://www.regulations.gov at Docket No. FWS-R8-ES-2009-0062, or by mail from the Sacramento Fish and Wildlife Office (see FOR FURTHER INFORMATION CONTACT).

Written Comments: You may submit written comments by one of the following methods:

(1) Electronically: Go to the Federal eRulemaking Portal: http://www.regulations.gov. Search for FWS-R8-ES-2009-0062, which is the docket number for this rulemaking.

(2) By hard copy: Submit by U.S. mail or hand-delivery to: Public Comments Processing, Attn: FWS-R8-ES-2009-0062; Division of Policy and Directives Management; U.S. Fish and Wildlife Service; 4401 N. Fairfax Drive, MS 2042-PDM; Arlington, VA 22203. Or deliver them by hand at the public hearing (see Public Hearing, below).

We request that you send comments only by the methods described above. We will post all comments on http://www.regulations.gov. This generally means that we will post any personal information you provide us (see the Public Comments section below for more information).

Public hearing: We will hold a public hearing at the Doubletree Hotel, 3100 Camino Del Rio Court, Bakersfield, California. The hearing will take place on the date and times indicated above under DATES. People needing reasonable accommodations in order to attend and participate should contact Robert Moler, External Affairs Supervisor, Sacramento Fish and Wildlife Office, as soon as possible (see FOR FURTHER INFORMATION CONTACT).

FOR FURTHER INFORMATION CONTACT: Jan Knight, Acting Field Supervisor, or Karen Leyse, Listing Coordinator, U.S. Fish and Wildlife Service, Sacramento Fish and Wildlife Office, 2800 Cottage Way, Room W-2605, Sacramento, CA 95825; by telephone (916) 414-6600; or by facsimile (916) 414-6713. Persons who use a telecommunications device for the deaf (TDD) may call the Federal Information Relay Service (FIRS) at (800) 877-8339.

SUPPLEMENTARY INFORMATION:

Public Comments

We will accept written comments and information during this reopened comment period on our revised proposed designation of critical habitat for the shrew that we published in the Federal Register on July 10, 2012 (77 FR 40706), our DEA of the revised proposed designation, and the amended required determinations provided in this document. We will consider information and recommendations from all interested parties. We are particularly interested in comments concerning:

(1) The reasons why we should or should not designate habitat as “critical habitat” under section 4 of the Act (16 U.S.C. 1531 et seq.), including whether there are threats to the species from human activity, the degree of which can be expected to increase due to the designation, and whether that increase in threat outweighs the benefit of designation such that the designation of critical habitat is not prudent.

(2) Specific information on:

(a) The distribution of the shrew, including the locations of any additional populations of this species that would help us further refine boundaries of critical habitat;

(b) The amount and distribution of shrew habitat, including areas that provide habitat for the shrew that we did not discuss in the revised proposed critical habitat rule;

(c) Any areas occupied by the species at the time of listing that contain features essential for the conservation of the species that we should include in the designation, and why; and

(d) Any areas not occupied at the time of listing that are essential to the conservation of the species, and why.

(3) Land use designations and current or planned activities in the subject areas and their possible impacts on proposed revised critical habitat.

(4) Any foreseeable economic, national security, or other relevant impacts that may result from designating any area that may be included in the final designation. We are particularly interested in any impacts on small entities, and the benefits of including or excluding areas from the proposed designation that are subject to these impacts.

(5) Whether our approach to designating critical habitat could be improved or modified in any way to provide for greater public participation and understanding, or to assist us in accommodating public concerns and comments.

(6) Information on the extent to which the description of economic impacts in the DEA is complete and accurate.

(7) The likelihood of adverse social reactions to the designation of critical habitat, as discussed in the DEA, and how the consequences of such reactions, if likely to occur, would relate to the conservation and regulatory benefits of the proposed revised critical habitat designation.

(8) Whether any specific areas being proposed as critical habitat should be excluded under section 4(b)(2) of the Act, and whether the benefits of potentially excluding any particular area outweigh the benefits of including that area under section 4(b)(2) of the Act. See Areas Previously Considered for Exclusion Under Section 4(b)(2) of the Act section below for further discussion.

If you submitted comments or information on the 2009 proposed rule (74 FR 53999, Oct 21, 2009 and 76 FR 23781, April 28, 2011), or on the July 10, 2012, revised proposed rule (77 FR 40706) during any of the previous comment periods, please do not resubmit them. We will incorporate them into the public record as part of this comment period, and we will fully consider them in the preparation of our final determination. Our final determination concerning revised critical habitat will take into consideration all written comments and any additional information we receive during all comment periods. On the basis of public comments, we may, during the development of our final determination, find that some areas proposed are not essential, are appropriate for exclusion under section 4(b)(2) of the Act, or are not appropriate for exclusion.

You may submit your comments and materials concerning the proposed rule or DEA by one of the methods listed in the ADDRESSES section. We request that you send comments only by the methods described in the ADDRESSES section.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, the DEA, as well as supporting documentation we used in preparing the proposed rule, will be available for public inspection at http://www.regulations.gov at Docket No. FWS-R8-ES-2009-0062, or by appointment, during normal business hours, at the U.S. Fish and Wildlife Service, Sacramento Fish and Wildlife Office (see FOR FURTHER INFORMATION CONTACT).

Background

It is our intent to discuss in this document only those topics directly relevant to the designation of revised critical habitat for the shrew. For more information on previous Federal actions concerning the shrew, refer to the proposed designation of critical habitat published in the Federal Register on October 21, 2009 (74 FR 53999). Additional relevant information may be found in the final rule to designate critical habitat for the Buena Vista Lake shrew published on January 24, 2005 (70 FR 3437). For more information on the shrew or its habitat, refer to the final listing rule published in the Federal Register on March 6, 2002 (67 FR 10101), which is available online at http://www.regulations.gov at Docket No. FWS-R8-ES-2009-0062, or by mail from the Sacramento Fish and Wildlife Office (see FOR FURTHER INFORMATION CONTACT).

Previous Federal Actions

On August 19, 2004, we proposed critical habitat for the shrew on approximately 4,649 acres (ac) (1,881 hectares (ha)) in Kern County, California (69 FR 51417). On January 24, 2005, we published in the Federal Register a final rule (70 FR 3437) designating 84 ac (34 ha) of critical habitat for the shrew in Kern County, California. The decrease in acreage between the proposed rule and final rule resulted from exclusions under section 4(b)(2) of the Act and, to a small degree, refinements in our mapping of critical habitat boundaries.

On October 2, 2008, the Center for Biological Diversity filed a complaint, challenging the Service's designation of critical habitat for the shrew, in the U.S. District Court for the Eastern District of California (Center for Biological Diversity v. United States Fish and Wildlife, et al., Case No. 08-CV-01490-AWI-GSA). On July 9, 2009, the Court approved a stipulated settlement agreement in which the Service agreed to submit a new proposed rule to the Federal Register within 90 days of the signed agreement. The new proposed rule was to encompass the same geographic area as the August 19, 2004 (69 FR 51417), proposed critical habitat designation.

In accordance with the settlement agreement, on October 21, 2009, we published a new proposed rule to designate critical habitat for the Buena Vista Lake shrew (74 FR 53999) encompassing the same geographic area as our August 19, 2004 (69 FR 51417), proposed designation. On April 28, 2011 (76 FR 23781), we announced the availability of a draft economic analysis (DEA) showing the economic impacts of the proposed critical habitat designation. In that document we invited comments on the DEA and amended required determinations, and we reopened the comment period for the proposed critical habitat designation. The document also announced a public hearing, which was held in Bakersfield, California, on June 8, 2011.

On March 6, 2012, the Service was granted an extension by the Court to consider additional information on the shrew that was identified during the 5-year review process (Center for Biological Diversity v. Kempthorne et al., Case 1:08-cv-01490-AWI-GSA, filed March 7, 2012). The extension provided for submission of a revised proposed rule to the Federal Register on or before June 29, 2012, with submission of a final rule on or before June 29, 2013. The revised proposed rule was published in the Federal Register on July 10, 2012 (77 FR 40706), with a 60-day comment period ending September 10, 2012. We will submit for publication in the Federal Register a final critical habitat designation for the Buena Vista Lake shrew on or before June 29, 2013.

Correction to Maps

In the revised proposed rule to designated critical habitat for the Buena Vista Lake shrew (77 FR 40706; July 10, 2012), we inadvertently mislabeled the unit names on the maps for units 4-7; the labels for Units 4 and 5 were inadvertently reversed in the revised proposal, as were the labels for Units 6 and 7. The correct index and unit maps are included in the Proposed Regulation Promulgation section of this notice. The correct unit names and unit numbers include: Unit 1, Kern National Wildlife Refuge (Subunits 1A, 1B, and 1C); Unit 2, Goose Lake; Unit 3, Kern Fan Recharge; Unit 4, Coles Levee; Unit 5, Kern Lake; Unit 6, Semitropic; and Unit 7, Lemoore. Please see the July 10, 2012, Federal Register notice on the revised proposed designation of critical habitat for the Buena Vista Lake shrew (77 FR 40706) for additional information on the units proposed as critical habitat. The changes set forth in the rule portion of this document are basically administrative and do not add or subtract any proposed critical habitat.

Critical Habitat

Section 3 of the Act defines critical habitat as the specific areas within the geographical area occupied by a species, at the time it is listed in accordance with the Act, on which are found those physical or biological features essential to the conservation of the species and that may require special management considerations or protection, and specific areas outside the geographical area occupied by a species at the time it is listed, upon a determination that such areas are essential for the conservation of the species. If the July 10, 2012, revised proposed rule is made final, section 7 of the Act will prohibit destruction or adverse modification of the designated critical habitat by any activity funded, authorized, or carried out by any Federal agency. Federal agencies proposing actions affecting critical habitat must consult with us on the effects of their proposed actions, under section 7(a)(2) of the Act.

Consideration of Impacts Under Section 4(b)(2) of the Act

Section 4(b)(2) of the Act requires that we designate or revise critical habitat based upon the best scientific data available, after taking into consideration the economic impact, impact on national security, or any other relevant impact of specifying any particular area as critical habitat. The Secretary may exclude an area from critical habitat if he determines that the benefits of excluding the area outweigh the benefits of including the area as critical habitat, provided such exclusion will not result in the extinction of the species.

When considering the benefits of inclusion for an area, we consider the additional regulatory benefits that area would receive from the protection from adverse modification or destruction as a result of actions with a Federal nexus (activities conducted, funded, permitted, or authorized by Federal agencies), the educational benefits of mapping areas containing essential features that aid in the recovery of the listed species, and any benefits that may result from designation due to State or Federal laws that may apply to critical habitat.

When considering the benefits of exclusion, we consider, among other things, whether exclusion of a specific area is likely to result in conservation; the continuation, strengthening, or encouragement of partnerships; or implementation of a management plan. In the case of the shrew, the benefits of critical habitat include public awareness of the presence of the shrew and the importance of habitat protection, and, where a Federal nexus exists, increased habitat protection for the shrew due to protection from adverse modification or destruction of critical habitat.

As discussed in the revised proposed rule, we have not proposed to exclude any areas from critical habitat designation, although we are considering whether to exclude the Kern Fan Water Discharge (Unit 3) (2,687 ac (1,088 ha)). We also have received comments from several entities requesting to exclude other areas based on economic or other concerns. We will evaluate these additional exclusion requests during our development of a final designation. The final decision on whether to exclude any areas will be based on the best scientific data available at the time of the final designation, including information obtained during the various comment periods and information about the economic impact of designation. Accordingly, we have prepared a draft economic analysis (DEA) concerning the revised proposed critical habitat designation, which is available for review and comment at http://www.regulations.gov at Docket No. FWS-R8-ES-2009-0062 (see ADDRESSES section). A previous DEA analyzing the economic impacts of the 2009 proposed critical habitat designation (74 FR 53999) is also available at that site. The new DEA analyzes economic impacts from the revised proposed critical habitat designation, published in the Federal Register July 10, 2012 (77 FR 40706).

Draft Economic Analysis

The purpose of the DEA is to identify and analyze the potential economic impacts associated with the proposed critical habitat designation for the shrew. The DEA separates conservation measures into two distinct categories according to “without critical habitat” and “with critical habitat” scenarios. The “without critical habitat” scenario represents the baseline for the analysis, considering protections otherwise afforded to the shrew (e.g., under the Federal listing and other Federal, State, and local regulations). The “with critical habitat” scenario describes the incremental impacts specifically due to designation of critical habitat for the species. In other words, these incremental conservation measures and associated economic impacts would not occur but for the designation. Conservation measures implemented under the baseline (without critical habitat) scenario are described qualitatively within the DEA, but economic impacts associated with these measures are not quantified. Economic impacts are only quantified for conservation measures implemented specifically due to the designation of critical habitat (i.e., incremental impacts). For a further description of the methodology of the analysis, see Chapter 2 “Framework of the Analysis,” of the DEA.

The DEA provides estimated costs of the foreseeable potential economic impacts of the proposed critical habitat designation for the Buena Vista Lake shrew over the next 20 years (2013 to 2032). This was determined to be an appropriate period for analysis because limited planning information is available for most economic activities in the area beyond a 20-year timeframe. It identifies potential incremental costs due to the proposed critical habitat designation; these are those costs attributed to critical habitat that are in addition to the baseline costs attributed to listing.

The DEA quantifies economic impacts of Buena Vista Lake shrew conservation efforts associated with the following categories of activity: (1) Water availability and delivery; (2) agricultural production; and (3) energy development. The DEA considers both economic efficiency and distributional effects that may result from efforts to protect the shrew and its habitat. Economic efficiency effects generally reflect the “opportunity costs” associated with the commitment of resources required to accomplish species and habitat conservation. The DEA also addresses how potential economic impacts are likely to be distributed.

The DEA concludes that incremental impacts resulting from the critical habitat designation are limited to additional administrative costs of section 7 consultation. There are two primary sources of uncertainty associated with the incremental effects analysis: (1) The actual rate of future consultation is unknown, and (2) future land use on private lands is uncertain. The analysis does not identify any future projects on private lands beyond those covered by existing baseline projections. Within critical habitat units, section 7 consultation on the shrew has not occurred on private lands that are not covered by conservation plans (Units 2 and 5). As a result, the analysis does not forecast incremental impacts due to conservation measures being implemented as a result of the designation of critical habitat. However, if zoning of these lands changes in the future (such as for urban residential or commercial development) and new projects are identified, conservation measures for the shrew may change.

The DEA estimates total potential incremental economic impacts in areas proposed as revised critical habitat over the next 20 years (2013 to 2032) to be approximately $130,000 (rounded to two significant digits) ($11,000 annualized) in present-value terms applying a 7 percent discount rate (Industrial Economics Inc. (IEc) 2013, p. 4-4). Administrative costs associated with section 7 consultations on a variety of activities (including pipeline construction and removal, delivery of water supplies under the Central Valley Project, pesticide applications for invasive species, and restoration activities) in proposed critical habitat Units 1, 2, and 3 are accounting for approximately 88 percent of the forecast incremental impacts (IEc 2012, p. 4-4). Pacific Gas and Electric (PG&E) has facilities in three of the proposed critical habitat units. Impacts associated with section 7 consultations on PG&E operations and maintenance activities represent approximately 31 percent of the total incremental costs and are expected to total $40,000 over the next 20 years. Incremental impacts due to costs of internal consultations at the Kern National Wildlife Refuge are expected to total $17,000 over the next 20 years, which represents approximately 13 percent of total incremental impacts. Incremental costs of section 7 consultations with the U.S. Army Corps of Engineers due to Clean Water Act (33 U.S.C. 1251 et seq.) permitting are estimated to total $15,000, and represent approximately 12 percent of total incremental costs. Finally, the present-value incremental impact of reviewing an update to the City of Bakersfield's management plan and one estimated formal section 7 consultation over the next 20 years for the shrew at Unit 3 is estimated at $7,800, and represents approximately 6 percent of the overall incremental impacts. No incremental impacts are estimated to be incurred by Aera Energy LLC for their activities at the Coles Levee Ecosystem Preserve (IEc 2012, p. 4-9).

The incremental costs described above are further broken down by location of expected incremental costs within the seven proposed critical habitat units. The greatest incremental impacts are due to cost of section 7 consultations forecast to occur for activities within the Kern Fan Recharge area (proposed Unit 3) ($79,000), and make up 61 percent of the overall incremental impacts. The second largest incremental impacts are predicted to occur within the Kern National Wildlife Refuge (proposed Unit 1) with present-value impacts at $22,000, comprising just over 17 percent of the overall incremental impacts. Incremental impacts associated with section 7 consultations for activities occurring on the Goose Lake Unit (proposed Unit 2), are forecast at $14,000 of present-value impacts, and makes up 11 percent of the overall incremental impacts. Incremental impacts due to section 7 consultations occurring on the Coles Levee Unit (proposed Unit 4) are estimated to be $7,200 in present-value impacts, comprising 6 percent of total incremental impacts. No projected incremental impacts are forecast to occur on the Kern Lake Unit (proposed Unit 5). The consultations forecast for proposed critical habitat Units 2 and 5 are limited to those associated with occasional permitted pipeline, restoration, or water projects. The incremental impacts associated with section 7 consultations for activities occurring on the Semitropic unit (Unit 6) are forecast at $5,900 of present-value impacts and make up 5 percent of the overall incremental impacts. Incremental impacts due to section 7 consultations occurring on the Lemoore unit (Unit 7) are estimated to be $1,100 in present-value impacts, comprising less than 1 percent of total incremental impacts.

As stated earlier, we are soliciting data and comments from the public on the DEA, as well as on all aspects of the proposed rule and our amended required determinations. We may revise the proposed rule or supporting documents to incorporate or address information we receive during the public comment period. In particular, we may exclude an area from critical habitat if we determine that the benefits of excluding the area outweigh the benefits of including the area, provided the exclusion will not result in the extinction of this species.

Required Determinations—Amended

In our July 10, 2012, revised proposed rule (77 FR 40706), we indicated that we would defer our determination of compliance with several statutes and executive orders until the information concerning potential economic impacts of the designation and potential effects on landowners and stakeholders became available in the DEA. We have now made use of the DEA data to make these determinations. In this document, we affirm the information in our proposed rule concerning Executive Order (E.O.) 12866 (Regulatory Planning and Review), E.O. 12630 (Takings), E.O. 13132 (Federalism), E.O. 12988 (Civil Justice Reform), E.O. 13211 (Energy, Supply, Distribution, and Use), the Unfunded Mandates Reform Act (2 U.S.C. 1501 et seq.), the Paperwork Reduction Act of 1995 (44 U.S.C. 3501 et seq.), the National Environmental Policy Act (42 U.S.C. 4321 et seq.), and the President's memorandum of April 29, 1994, “Government-to-Government Relations with Native American Tribal Governments” (59 FR 22951). However, based on the DEA data, we are amending our required determination concerning the Regulatory Flexibility Act (5 U.S.C. 601 et seq.)

Regulatory Flexibility Act (5 U.S.C. 601 et seq.)

Under the Regulatory Flexibility Act (RFA; 5 U.S.C. 601 et seq.), as amended by the Small Business Regulatory Enforcement Fairness Act of 1996 (SBREFA; 5 U.S.C. 801 et seq.), whenever an agency is required to publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. The SBREFA amended the RFA to require Federal agencies to provide a certification statement of the factual basis for certifying that the rule will not have a significant economic impact on a substantial number of small entities. Based on our DEA of the proposed designation, we provide our analysis for determining whether the proposed rule would result in a significant economic impact on a substantial number of small entities. Based on comments we receive, we may revise this determination as part of our final rulemaking.

According to the Small Business Administration, small entities include small organizations such as independent nonprofit organizations; small governmental jurisdictions, including school boards and city and town governments that serve fewer than 50,000 residents; and small businesses (13 CFR 121.201). Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we considered the types of activities that might trigger regulatory impacts under this designation as well as types of project modifications that may result. In general, the term “significant economic impact” is meant to apply to a typical small business firm's business operations.

To determine if the proposed designation of critical habitat for the shrew would affect a substantial number of small entities, we considered the number of small entities affected within particular types of economic activities, such as water availability and delivery, agricultural production, or energy development. In order to determine whether it is appropriate for our agency to certify that this proposed rule would not have a significant economic impact on a substantial number of small entities, we considered each industry or category individually. In estimating the numbers of small entities potentially affected, we also considered whether their activities have any Federal involvement. Critical habitat designation will not affect activities that do not have any Federal involvement; designation of critical habitat only affects activities conducted, funded, permitted, or authorized by Federal agencies. In areas where the shrew is present, Federal agencies already are required to consult with us under section 7 of the Act on activities they fund, permit, or implement that may affect the species. If we finalize this proposed critical habitat designation, consultations to avoid the destruction or adverse modification of critical habitat would be incorporated into the existing consultation process.

In the DEA, we evaluated the potential economic effects on small entities resulting from implementation of conservation actions related to the proposed designation of critical habitat for the shrew. The DEA did not identify any entities meeting the definition as small (IEc 2012, pp. A-2-A-3). However, we acknowledge that third-party proponents of an action subject to Federal permitting or funding may be indirectly affected by critical habitat designation. The DEA, therefore, includes a brief evaluation of the potential number of third-party small business entities likely to be affected if this critical habitat designation is finalized. In total, the DEA estimates $26,000 in incremental impacts may be borne by third-party participants in section 7 consultation. As shown in Exhibit A-1 of the DEA, none of these third-party entities meets SBA's definition of a small government or business (IEc 2012, pp. A-4—A-6). Please refer to the DEA of the proposed critical habitat designation for a more detailed discussion of potential economic impacts.

In summary, we have considered whether the proposed designation would result in a significant economic impact on a substantial number of small entities. Information for this analysis was gathered from the Small Business Administration, stakeholders, and the Service. We estimate that no (roughly zero as identified in the DEA) small business will be affected annually by designation of this proposed critical habitat. However, based on comments we receive, we may revise this estimate as part of our final rulemaking. For the above reasons and based on currently available information, we certify that, if promulgated, the proposed critical habitat designation would not have a significant economic impact on a substantial number of small business entities. Therefore, an initial regulatory flexibility analysis is not required.

References Cited

A complete list of all references we cited in the proposed rule and in this document is available on the Internet at http://www.regulations.gov or by contacting the Sacramento Fish and Wildlife Office (see FOR FURTHER INFORMATION CONTACT).

Authors

The primary authors of this notice are the staff members of the Sacramento Fish and Wildlife Office, Region 8, U.S. Fish and Wildlife Service.

Authority

The authority for this action is the Endangered Species Act of 1973, as amended (16 U.S.C. 1531 et seq.).

Proposed Regulation Promulgation

Accordingly, we propose to further amend part 17, subchapter B of chapter I, title 50 of the Code of Federal Regulations, as proposed to be revised at 77 FR 40706 (July 10, 2012), as set forth below:

PART 17—[AMENDED]

1. The authority citation for part 17 continues to read as follows:

Authority: 16 U.S.C. 1361-1407, 1531-1544, and 4201-4245, unless otherwise noted.

2. In § 17.95, the critical habitat designation for “Buena Vista Lake Shrew (Sorex ornatus relictus)” is proposed to be amended by revising paragraphs (a)(4) through (15) to read as follows:

§ 17.95 Critical habitat—fish and wildlife.

(a) Mammals.

* * * * *

Buena Vista Lake Shrew (Sorex ornatus relictus)

* * * * *

(4) Critical habitat map units. Data layers defining map units were created on a base of USGS digital ortho-photo quarter-quadrangles, and critical habitat units were then mapped using Universal Transverse Mercator (UTM) Zone 11 coordinates.

(5) The coordinates for these maps are available on the Internet at http://www.regulations.gov at Docket No. FWS-R8-ES-2009-0062, at http://www.fws.gov/sacramento/, or at the Sacramento Fish and Wildlife Office. Field office location information may be obtained at the Service regional offices, the addresses of which are at 50 CFR 2.2.

(6) The index map of critical habitat units for the Buena Vista Lake shrew (Sorex ornatus relictus) in Kern and Kings Counties, California, follows:

BILLING CODE 4310-55-P

(7) Subunit 1A: Kern National Wildlife Refuge, Kern County, California. Map of Subunits 1A, 1B, and 1C follows:

(8) Subunit 1B: Kern National Wildlife Refuge, Kern County, California. Map of Subunits 1A, 1B, and 1C is provided at paragraph (7) of this entry.

(9) Subunit 1C: Kern National Wildlife Refuge, Kern County, California. Map of Subunits 1A, 1B, and 1C is provided at paragraph (7) of this entry.

(10) Unit 2: Goose Lake, Kern County, California. Map follows:

(11) Unit 3: Kern Fan Recharge, Kern County, California. Map follows:

(12) Unit 4: Coles Levee, Kern County, California. Map follows:

(13) Unit 5: Kern Lake, Kern County, California. Map follows:

(14) Unit 6: Semitropic, Kern County, California. Map follows:

(15) Unit 7: Lemoore, Kings County, California. Map follows:

* * * * *

Dated: February 19, 2013.
Rachel Jacobsen,
Principal Deputy Assistant Secretary for Fish and Wildlife and Parks.

[FR Doc. 2013-04785 Filed 3-4-13; 8:45 am]

BILLING CODE 4310-55-C